FEDERAL COMMUNICATIONS COMMISSION

47 CFR Part 73

[DA 04-1027; MB Docket No. 04-127, RM-10941; MB Docket No. 04-128, RM-10942; MB Docket No. 04-129, RM-10943; MB Docket No. 04-130, RM-10944; MB Docket No. 04-131, RM-10945; MB Docket No. 04-132, RM-10946; MB Docket No. 04-133, RM-10947; MB Docket No. 04-134, RM-10948, MB Docket No. 04-135, RM-10949, RM-10950; MB Docket No. 04-136, RM-10951; MB Docket No. 04-137, RM-10952; MB Docket No. 04-138, RM-10953, RM-10954]

Radio Broadcasting Services; Augusta, WI, Barnwell, SC, Burnet, TX, Denver City, TX, Fountain Green, UT, Hayward, WI, Liberty, PA, Shenandoah, VA, St. Marys, WV, Susquehanna, PA, Toquerville, UT, and Van Alstyne, TX

AGENCY: Federal Communications Commission.

ACTION: Proposed rule.

SUMMARY: This document sets forth twelve reservation proposals requesting to amend the FM Table of Allotments by reserving certain vacant FM allotments for noncommercial educational use in Augusta, WI, Barnwell, SC, Burnet, TX, Denver City, TX, Fountain Green, UT, Hayward, WI, Liberty, PA, Shenandoah, VA, St. Marys, WV, Susquehanna, PA, Toquerville, UT, and Van Alstyne, TX. The Audio Division requests comment on a petition filed Youngshine Media, Inc. proposing the reservation of vacant Channel 298A at Liberty, PA for noncommercial use. The reference coordinates for Channel *298A at Liberty are 41-29-28 North Latitude and 77-12-22 West Longitude. The Audio Division requests comment on petitions filed by American Family Association proposing the reservation of vacant Channel 227A at Susquehanna, PA, vacant Channel 256C3 at Barnwell, SC, vacant Channel 240A at Burnet, TX, vacant Channel 248C2 at Denver City, TX, and vacant Channel 260A at Van Alstyne, TX for noncommercial use. The reference coordinates for Channel *227A at Susquehanna are 41-55-44 North Latitude and 75-31-50 West Longitude. The reference coordinates for Channel *256C3 at Barnwell are 33-24-29 North Latitude and 81-16-43 West Longitude. The reference coordinates for Channel *240A at Burnet are 30-51-5 North Latitude and 98-17-35 West Longitude. The reference coordinates for Channel *248C2 at Denver City are 33-1-53 North Latitude and 102-48-47 West Longitude. The reference coordinates for Channel *260A at Van Alstyne are 33-27-8 North Latitude and 96-27-21 West Longitude. See SUPPLEMENTARY INFORMATION, infra.

DATES: Comments must be filed on or before June 10, 2004, and reply comments on or before June 25, 2004.

ADDRESSES: Federal Communications Commission, 445 Twelfth Street, SW., Washington, DC. 20554. In addition to filing comments with the FCC, interested parties should serve the petitioner, his counsel, or consultant, as follows: Arthur H. Harding, Esq., Christopher G. Wood, Esq., Mark B. Denbo, Esq., c/o Youngshine Media, Inc., Fleischman and Walsh, L.L.P., 1919 Pennsylvania Avenue, NW., Suite 600, Washington, DC 20006; Patrick J. Vaughn, General Counsel, American Family Association, Post Office Drawer 2440, Tupelo, MS 38803; Peter Gutmann, Esq., c/o Intermountain Educational Communications, Inc., Womble, Carlyle, Sandridge & Rice, PLLC, 1401 I Street, NW., Seventh Floor, Washington, DC 20005; David A. O'Connor, Esq., c/o Calvary Chapel of St. George, Holland & Knight LLP, 2099 Pennsylvania Avenue, NW., Suite 100, Washington, DC 20006; Jeffrey D. Southmayd, Esq., c/o Sister Sherry Lynn Foundation, Inc., Southmayd & Miller, 1220 19th Street, NW., Suite 400, Washington, DC 20036; Mark Follett, Starboard Media Foundation, Inc., 2300 Riverside Drive, Green Bay, WI 54301; Thomas P. Taggart, Trustee/Counsel, Fine Arts Radio, Inc., 8 Ransom Road, Athens, OH 45701; and Kenneth E. Satten, Esq., Timothy J. Cooney, Esq., and Rebecca A. Schillings, c/o West Virginia Educational Broadcasting Authority, Wilkinson, Barker, Knauer, LLP, 2300 N Street, NW., Suite 700, Washington, DC 20037.

FOR FURTHER INFORMATION CONTACT: Rolanda F. Smith, Media Bureau, (202) 418-2180.

SUPPLEMENTARY INFORMATION: This is a synopsis of the Commission's Notice of Proposed Rule Making, MB Docket Nos. 04-127, 04-128, 04-129, 04-130, 04-131, 04-132, 04-133, 04-134, 04-135, 04-136, 04-137, 04-138, adopted April 14, 2004 and released April 19, 2004. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

The Audio Division requests comment on a petition filed by Intermountain Educational Communications, Inc. proposing the reservation of vacant Channel 260A at Fountain Green for noncommercial use. The reference coordinates for Channel *260A at Fountain Green are 39-37-42 North Latitude and 111-38-24 West Longitude.

The Audio Division requests comment on a petition filed by Calvary Chapel of St. George proposing the reservation of vacant Channel 280C at Toquerville, UT for noncommercial use. The reference coordinates for Channel *280C at Toquerville are 37-15-12 North Latitude and 113-17-0 West Longitude.

The Audio Division requests comment on petitions filed by Sister Sherry Lynn Foundation, Inc. and American Family Association proposing the reservation of vacant Channel 296A at Shenandoah, VA for noncommercial use. The reference coordinates for Channel *296A at Shenandoah are 38-30-0 North Latitude and 78-36-33 West Longitude.

The Audio Division requests comment on petitions filed by Starboard Media Foundation, Inc. proposing the reservation of vacant Channel 268C3 at Augusta, WI and vacant Channel 232C2 at Hayward, WI for noncommercial use. The reference coordinates for Channel *268C3 at Augusta are 44-40-11 North Latitude and 90-57-55 West Longitude. The reference coordinates for Channel *232C2 at Hayward are 46-15-4 North Latitude and 91-23-1 West Longitude.

The Audio Division requests comment on petitions filed by Fine Arts Radio, Inc. and West Virginia Educational Broadcasting Authority proposing the reservation of vacant Channel 287A at St. Marys, WV for noncommercial use. The reference coordinates for Channel *287A at St. Marys are 39-18-3 North Latitude and 81-15-19 West Longitude. Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Pennsylvania is amended by adding Channel *298A and by removing Channel 298A at Liberty; and by adding Channel *227A and by removing Channel 227A at Susquehanna.

3. Section 73.202(b), the Table of FM Allotments under South Carolina, is amended by adding Channel *256C3 and by removing Channel 257C1 at Barnwell.¹

¹ In MM Docket No. 00-18, the Audio Division substituted Channel 257C1 for 256C3 at Barnwell, SC, reallotted Channel 257C1 to Pembroke, Georgia, and modified the license of Station WBAW to specify operation on Channel 257C1 at Pembroke. As such, Channel 256C3 was allotted to Barnwell, SC as a replacement service. See 66 FR 55596, published November 2, 2001.

4. Section 73.202(b), the Table of FM Allotments under Texas, is amended by adding Channel *240A and by removing Channel 240A at Burnet; by adding Channel *248C2 and by removing Channel 248C2 at Denver City; by adding Channel *260A and by removing Channel 260A at Van Alstyne.

5. Section 73.202(b), the Table of FM Allotments under Utah, is amended by adding Channel *260A and by removing Channel 260A at Fountain Green; and by adding Channel *280C and by removing Channel 280C at Toquerville.

6. Section 73.202(b), the Table of FM Allotments under Virginia, is amended by adding Channel *296A and by removing Channel 296A at Shenandoah.

7. Section 73.202(b), the Table of FM Allotments under West Virginia, is amended by adding Channel *287A and by removing Channel 287A at St. Marys.

8. Section 73.202(b), the Table of FM Allotments under Wisconsin, is amended by adding Channel *268C3 and by removing Channel 268C3 at Augusta; and by adding Channel *232C2 and by removing Channel 232C2 at Hayward.

Federal Communications Commission.
Peter H. Doyle,
Chief, Audio Division, Media Bureau.

[FR Doc. 04-10682 Filed 5-10-04; 8:45 am]

BILLING CODE 6712-01-P